DEPARTMENT OF HOUSING AND URBAN DEVELOPMENT

[Docket No. FR-5390-N-01]

Notice of Availability: Notice of Funding Availability (NOFA) for the Fiscal Year (FY) 2009 Section 202 Demonstration Pre-Development Grant Program

AGENCY: Office of the General Counsel, HUD.

ACTION: Notice.

SUMMARY: HUD announces the availability on its Web site of the applicant information, submission deadlines, funding criteria and other requirements for the FY2009 Section 202 Demonstration Pre-Development Grant Program NOFA. Approximately $20 million is made available through this NOFA, by the Omnibus Appropriations Act, 2009 (Pub. L. 111-8, approved March 11, 2009). The purpose of the Section 202 Demonstration Pre-Development Grant Program is to assist Sponsors of projects that receive Fund Reservation Awards pursuant to the FY 2009 NOFA for the Section 202 Supportive Housing for the Elderly Program by providing pre-development grant funding for architectural and engineering work, site control, and other planning related expenses that are eligible for funding under the Section 202 Supportive Housing for the Elderly Program.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Section 202 Demonstration Pre-Development Program is 14.157. Applications must be submitted electronically through Grants.gov.

FOR FURTHER INFORMATION CONTACT: Questions regarding specific program requirements should be directed to the agency contact identified in the program NOFA. Questions regarding the 2009 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: August 30, 2010.
Aaron Santa Anna,
Assistant General Counsel for Regulations.

[FR Doc. 2010-22082 Filed 9-2-10; 8:45 am]

BILLING CODE 4210-67-P